DEPARTMENT OF HEALTH AND HUMAN SERVICES

Office of the Secretary

Promoting the Rule of Law Through Improved Agency Guidance Documents

AGENCY: Office of the Secretary, Department of Health and Human Services.

ACTION: Notice.

SUMMARY: The Department of Health and Human Services has received an extension to the deadline to comply with Executive Order 13891: Promoting the Rule of Law Through Improved Agency Guidance Documents. Executive Order 13891, through Subsections (a) and (b), requires the establishment of a new guidance portal and the rescission of any guidance documents that are not included in it, respectively. The Office of Management and Budget (OMB), through its implementing memorandum (https://www.whitehouse.gov/wp-content/uploads/2019/10/M-20-02-Guidance-Memo.pdf), has determined the deadlines for these subsections to be February 28, 2020. OMB granted the Department of Health and Human Services an extension for subsections (a) and (b) on February 27, 2020. The Department will establish its guidance portal by August 31, 2020.

A full copy of the extension letter can be found on the HHS website at, https://www.hhs.gov/regulations/index.html.

FOR FURTHER INFORMATION CONTACT: Samuel Shipley, Office of the Executive Secretary, at Guidance@hhs.gov or (202) 690-5627.

Dated: March 12, 2020.
Ann C. Agnew,
Executive Secretary, Department of Health and Human Services.

[FR Doc. 2020-05647 Filed 3-17-20; 8:45 am]

BILLING CODE 4150-03-P